ENVIRONMENTAL PROTECTION AGENCY

[FRL-8204-6; Docket ID No. EPA-HQ-ORD-2004-0018]

Draft Air Quality Criteria for Lead

AGENCY: Environmental Protection Agency (EPA).

ACTION: Notice of public comment period on Revised Integrative Synthesis Chapter and Executive Summary.

SUMMARY: The EPA is announcing a public comment period for revised Integrative Synthesis and Executive Summary chapters from the draft document titled, “Air Quality Criteria for Lead; Second External Review Draft” (EPA/600/R-05/144aB-bB). The document was prepared by the National Center for Environmental Assessment within EPA's Office of Research and Development.

EPA is releasing these draft chapters solely for the purpose of seeking public comment and for review by the Clean Air Scientific Advisory Committee (CASAC) via a teleconference meeting to be held on August 15, 2006 (time and phone number to be specified in a separate Federal Register notice). It does not represent and should not be construed to represent any Agency policy, viewpoint, or determination. EPA will consider any public comments submitted in accordance with this notice when revising the document.

DATES: The public comment period begins on or about August 1, 2006, and ends August 15, 2006. Comments must be received on or before August 15, 2006.

ADDRESSES: The revised Integrative Synthesis and Executive Summary chapters from the draft “Air Quality Criteria for Lead; Second External Review Draft” will be available primarily via the Internet on the National Center for Environmental Assessment's home page under the Recent Additions and Publications menus at http://www.epa.gov/ncea. A limited number of CD-ROM or paper copies will be available. Contact Ms. Diane Ray by phone (919-541-3637), fax (919-541-1818), or e-mail (ray.diane@epa.gov) to request either of these, and please provide your name, your mailing address, and the document title, “Air Quality Criteria for Lead; Second External Review Draft,” (EPA/600/R-05/144aB-bB) to facilitate processing of your request.

Comments may be submitted electronically via www.regulations.gov, by mail, or by hand delivery/courier. Please follow the detailed instructions provided in the SUPPLEMENTARY INFORMATION section of this notice.

FOR FURTHER INFORMATION CONTACT: For information on the public comment period, contact the Office of Environmental Information Docket; telephone: 202-566-1752; or e-mail: ORD.Docket@epa.gov.

For technical information, contact Lori White, PhD., NCEA; telephone: 919-541-3146; facsimile: 919-541-1818; or e-mail: white.lori@epa.gov.

SUPPLEMENTARY INFORMATION:

I. Information about the Project/Document

Section 108(a) of the Clean Air Act directs the Administrator to identify certain pollutants that “may reasonably be anticipated to endanger public health and welfare” and to issue air quality criteria for them. These air quality criteria are to (accurately reflect the latest scientific knowledge useful in indicating the kind and extent of all identifiable effects on public health or welfare which may be expected from the presence of [a] pollutant in the ambient air* * *.” Under section 109 of the Act, EPA is then to establish National Ambient Air Quality Standards (NAAQS) for each pollutant for which EPA has issued criteria. Section 109(d) of the Act requires subsequent periodic review and, if appropriate, revision of existing air quality criteria to reflect advances in scientific knowledge on the effects of the pollutant on public health and welfare. EPA is also to revise the NAAQS, if appropriate, based on the revised criteria.

Lead is one of six “criteria” pollutants for which EPA has established air quality criteria and NAAQS. On November 9, 2004 (69 FR 64926), EPA formally initiated its current review of the criteria and NAAQS for lead, requesting the submission of recent scientific information on specified topics. A draft of EPA's “Project Work Plan for Revised Air Quality Criteria for Lead” (NCEA-R-1465) was released on January 7, 2005, for public comment (70 FR 1439) and was discussed by the Clean Air Scientific Advisory Committee (CASAC) via a publicly accessible March 28, 2005, teleconference consultation (70 FR 11629). On July 15, 2005 (70 FR 41007), several workshops were announced to discuss, with invited recognized scientific experts, initial draft materials that dealt with various lead-related issues being addressed in the draft AQCD for lead. These workshops were held August 4-5, 16-18, and 17-19, 2005. The first external review draft of the Air Quality Criteria for Lead, EPA/600/R-05/144aA-bA, was announced in the Federal Register on December 2, 2005 (70 FR 72300). The CASAC Lead Review Panel reviewed the first external review draft at a public meeting on February 28 and March 1, 2006.

Release of the second external review draft of the Air Quality Criteria for Lead, EPA/600/R-05/144aB-bB, was announced in the Federal Register on May 19, 2006 (71 FR 29152). The CASAC Lead Review Panel reviewed the second external review draft at a public meeting on June 28-29, 2006. EPA is now releasing revised Integrative Synthesis and Executive Summary chapters for public and CASAC review. EPA has considered the comments of the CASAC review panel and of the public in preparing both the Second External Review Draft of the Air Quality Criteria for Lead and these revised Integrative Synthesis and Executive Summary chapters.

After the end of the comment period on the revised Integrative Synthesis and Executive Summary chapters for the Air Quality Criteria for Lead, Second External Review Draft, EPA will present the draft at a public meeting for review by CASAC. Public comments received will be provided to the CASAC review panel. There will be a Federal Register notice to inform the public of the exact date and time of that CASAC meeting.

II. How to Submit Technical Comments to the Docket at www.regulations.gov

Submit your comments, identified by Docket ID No. EPA-HQ-ORD-2004-0018, by one of the following methods:

• www.regulations.gov: Follow the on-line instructions for submitting comments.

• E-mail: ORD.Docket@epa.gov.

• Mail: Office of Environmental Information (OEI) Docket in the Headquarters EPA Docket Center (Mail Code 2822T), U.S. Environmental Protection Agency, 1200 Pennsylvania Avenue, NW., Washington, DC 20460.

• Hand Delivery: Office of Environmental Information (OEI) Docket in the Headquarters EPA Docket Center, EPA West Building, Room B102, 1301 Constitution Ave., NW., Washington, DC. The EPA Docket Center Public Reading Room is open from 8:30 a.m. to 4:30 p.m., Monday through Friday, excluding legal holidays. The telephone number for the Public Reading Room is 202-566-1744, and the telephone number for the OEI Docket is 202-566-1752. Deliveries are only accepted during the Docket's normal hours of operation, and special arrangements should be made for deliveries of boxed information.

Note: The EPA Docket Center suffered damage due to flooding during the last week of June 2006. The Docket Center is continuing to operate. However, during the cleanup, there will be temporary changes to Docket Center telephone numbers, addresses, and hours of operation for people who wish to make hand deliveries or visit the Public Reading Room to view documents. Consult EPA's Federal Register notice at 71 FR 38147 (July 5, 2006) or the EPA Web site at www.epa.gov/epahome/dockets.htm for current information on docket operations, locations and telephone numbers. The Docket Center's mailing address for U.S. mail and the procedure for submitting comments to www.regulations.gov are not affected by the flooding and will remain the same.

If you provide information in writing, please submit one unbound original, with pages numbered consecutively, and three copies. For attachments, provide an index, number pages consecutively with the main text, and submit an unbound original and three copies.

Instructions: Direct your comments to Docket ID No. EPA-HQ-ORD-2004-0018. EPA's policy is that all comments received will be included in the public docket without change and may be made available online at www.regulations.gov, including any personal information provided, unless the included information is claimed as Confidential Business Information (CBI) or other information whose disclosure is restricted by statute. Do not submit information that you consider to be CBI or otherwise protected through www.regulations.gov or e-mail. The www.regulations.gov Web site is an “anonymous access” system, which means EPA will not know your identity or contact information unless you provide it in the body of your comment. If you send an e-mail comment directly to EPA without going through www.regulations.gov, your e-mail address will be automatically captured and included as part of the comment that is placed in the public docket and made available on the Internet. If you submit an electronic comment, EPA recommends that you include your name and other contact information with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm.

Docket: All documents in the docket are listed in the www.regulations.gov index. Although listed in the index, some information is not publicly available, e.g., CBI or other information whose disclosure is restricted by statute. Certain other material, such as copyrighted material, will be publicly available only in hard copy. Publicly available docket materials are available either electronically in www.regulations.gov or in hard copy at the OEI Docket at the EPA Headquarters Docket Center.

Dated: July 25, 2006.
Peter W. Preuss,
Director, National Center for Environmental Assessment.

[FR Doc. E6-12216 Filed 7-28-06; 8:45 am]

BILLING CODE 6560-50-P